DEPARTMENT OF THE INTERIOR
Bureau of Land Management
[AK-025-04-1610-DO-089L]
Notice of Intent To Prepare a Resource Management Plan and Associated Environmental Impact Statement for the Kobuk-Seward Peninsula Planning Area

AGENCY:
Bureau of Land Management, Interior.

ACTION:
Notice of Intent to prepare a Resource Management Plan (RMP) with an associated Environmental Impact Statement (EIS) for the Kobuk-Seward Peninsula planning area in western Alaska.

SUMMARY:
This document provides notice that the Bureau of Land Management (BLM) intends to prepare an RMP for the Kobuk-Seward Peninsula planning area, which includes public lands and resources managed by the Northern Field Office. This action will require a single EIS. The planning area includes approximately 13 million acres of BLM-administered lands in western Alaska and encompasses the area from Point Lay south to the Norton Sound, and from the Bering and Chukchi seas east to the Kobuk River. It includes the Seward Peninsula east to the Nulato Hills. The plan will fulfill the needs and obligations set forth by the National Environmental Policy Act (NEPA), the Federal Land Policy and Management Act (FLPMA), and BLM management policies. The BLM will work collaboratively with interested parties to identify the management decisions that are best suited to local, regional, and national needs and concerns. The public scoping process will identify planning issues and develop planning criteria.

DATES:

The public scoping period will begin upon publication of this notice. Formal scoping will end 90 days after publication of this notice. Comments on issues and planning criteria can be submitted in writing to the address listed below. All public meetings will be announced through the local news media and the BLM Web site (http://aurora.ak.blm.gov/) at least 15 days prior to the event. The minutes and list of attendees for each meeting will be available to the public and open for 30 days to any participants who wish to clarify the views they expressed.

Public Participation: Public meetings will be held throughout the plan scoping and preparation period. In order to ensure local community participation and input, public meetings will be held in several communities within the planning area. Early participation is encouraged and will help determine the future management of BLM-administered lands within the planning area. In addition to the ongoing public participation process, formal opportunities for public participation will be provided through comment on the alternatives and upon publication of the BLM draft RMP/EIS.

ADDRESSES:
Written comments should be sent to: Field Manager, Kobuk-Seward Peninsula Resource Management Planning, Bureau of Land Management, Northern Field Office, 1150 University Avenue, Fairbanks, Alaska, 99709-3844; Fax (907)-474-2282. Comments, including names and street addresses of respondents, will be available for public review at the Northern Field Office during regular business hours 7:30 a.m. to 4:30 p.m., Monday through Friday, except holidays, and may be published as part of the EIS. Individual respondents may request confidentiality. If you wish to withhold your name or street address from public review or from disclosure under the Freedom of Information Act, you must state this prominently at the beginning of your written comment. Such requests will be honored to the extent allowed by law. All submissions from organizations and businesses, and from individuals identifying themselves as representatives or officials or organizations or businesses, will be available for public inspection in their entirety.

FOR FURTHER INFORMATION CONTACT:

For further information and/or to have your name added to our mailing list, contact Jeanie Cole by telephone at (907) 474-2340 or via e-mail at jeanie_cole@blm.gov.

Dated: January 12, 2004.
Susan M. Will,
Acting Manager, Northern Field Office.

[FR Doc. 04-2050 Filed 1-29-04; 8:45 am]
BILLING CODE 4310-JA-P